DEPARTMENT OF COMMERCE

Foreign-Trade Zones Board

[Order No. 1903]

Designation of New Grantee; Foreign Trade Zone 186; Waterville, Maine

Pursuant to its authority under the Foreign-Trade Zones Act of June 18, 1934, as amended (19 U.S.C. 81a-81u), and the Foreign-Trade Zones Board Regulations (15 CFR Part 400), the Foreign-Trade Zones Board (the Board) adopts the following Order:

The Foreign-Trade Zones (FTZ) Board (the Board) has considered the application (filed 3/26/13) submitted by the Maine International Foreign Trade Zone, Inc., grantee of FTZ 186, requesting reissuance of the grant of authority for said zone to the City of Waterville, which has accepted such reissuance subject to approval by the FTZ Board. Upon review, the Board finds that the requirements of the FTZ Act and the Board's regulations are satisfied, and that the proposal is in the public interest.

Therefore, the Board approves the application and recognizes the City of Waterville as the new grantee for Foreign-Trade Zone 186, subject to the FTZ Act and the Board's regulations, including Section 400.13.

Signed at Washington, DC, this 10th day of June 2013.
Paul Piquado,
Assistant Secretary of Commerce for Import Administration, Alternate Chairman Foreign-Trade Zones Board.

Attest:

Andrew McGilvray,
Executive Secretary.

[FR Doc. 2013-14358 Filed 6-14-13; 8:45 am]

BILLING CODE 3510-DS-P